DEPARTMENT OF THE TREASURY

Departmental Offices; Privacy Act of 1974, as Amended

AGENCY: Departmental Offices, Treasury.

ACTION: Notice of Proposed Alterations of a Privacy Act System of Records.

SUMMARY: In accordance with the requirements of the Privacy Act of 1974, and the Office of Management and Budget (OMB) Circular A-130 and Memorandum M-07-16, the Department of the Treasury (Department), Office of D.C. Pensions gives notice of a proposed altered system of records entitled, “D.C. Pensions Retirement Records—Treasury/DO .214.”

DATES: Comments must be received no later than July 22, 2009. The proposed alteration to the system of records will be effective August 3, 2009 unless the Office of D.C. Pensions receives comments which would result in a contrary determination.

ADDRESSES: Comments should be sent to Nancy Ostrowski, Director, Office of D.C. Pensions, Department of the Treasury, 1500 Pennsylvania Avenue, NW., Washington, DC 20220. The Department will make such comments available for public inspection and copying in the Department's Library, Room 1428, Main Treasury Building, 1500 Pennsylvania Avenue, NW., Washington, DC 20220, on official business days between the hours of 10 a.m. and 5 p.m. Eastern Time. You can make an appointment to inspect comments by telephoning (202) 622-0990. All comments, including attachments and other supporting materials, received are part of the public record and subject to public disclosure. You should submit only information that you wish to make available publicly.

FOR FURTHER INFORMATION CONTACT: Nancy Ostrowski, Director, Office of D.C. Pensions, Department of the Treasury, 1500 Pennsylvania Avenue, NW., Washington, DC 20220, at 202-622-2214 or via electronic mail at nancy.ostrowski@do.treas.gov.

SUPPLEMENTARY INFORMATION: Pursuant to the Privacy Act of 1974, and the Office of Management and Budget (OMB) Circular A-130 and Memorandum M-07-16, the Office of D.C. Pensions conducted a complete review of its August 9, 2005, published Privacy Act system of records notice and identified changes that more accurately describe its records. The changes throughout the document update the list of records utilized in the Office of D.C. Pensions as of September 2009.

Under provisions in Title XI of the Balanced Budget Act of 1997, as amended (the Act), the Secretary of the Treasury (Secretary) assumed certain responsibilities for a specific population of annuitants under the following District of Columbia (District) retirement plans: The Police Officers' and Firefighters' Retirement Plan; the Teachers' Retirement Plan; and the Judges' Retirement Plan. Specifically, the Secretary is responsible for administering the retirement benefits earned by District police officers, firefighters, and teachers based upon service accrued prior to July 1, 1997; and, retirement benefits earned by District judges, regardless of when service accrued. These benefits are described as Federal benefits. The retirement benefits of District police officers, firefighters, and teachers based upon service accrued starting July 1, 1997 and going forward, are described as District benefits.

With regard to the administration of Federal and District benefits, the Department of the Treasury (Department) and the District operate under a Memorandum of Understanding (MOU). Under the MOU, the District is responsible for Federal benefits administration duties for current and former District police officers, firefighters, and teachers, including their survivors and beneficiaries. The same MOU stipulates that the Department will provide pension payroll system services to the District for Federal and District benefit payments. The benefits administration responsibilities for current and former D.C. Judges, including survivors and beneficiaries, covered under the District's Judges' Retirement Plan are performed by the Department's Office of D.C. Pensions.

For purposes of this Notice—

a. The term “current police officers, firefighters, teachers and/or judges” refers to individuals who are (1) presently working for (not separated or retired from) the District, and performing service subject to the Police Officers' and Firefighters', and Teachers' Retirement Plans; or (2) presently working for (not separated or retired from) the D.C. Courts, and performing service subject to the Judges' Retirement Plan entitling them to benefit payments.

b. The term “former police officers, firefighters, teachers and/or judges” refers to individuals who are separated or retired (1) from the District, and who performed service subject to the Police Officers' and Firefighters', or Teachers' Retirement Plans; or (2) from the D.C. Courts, and who performed service subject to the Judges' Retirement Plan entitling them to benefit payments.

c. The term “benefit payment(s)” refers to a/an (1) annuity that is paid monthly; (2) lump-sum payment of retirement contributions; and/or (3) lump-sum payment due to a death, made to an eligible recipient.

On May 22, 2007, the Office of Management and Budget (OMB) issued Memorandum M-07-16 entitled, “Safeguarding Against and Responding to the Breach of Personally Identifiable Information.” It required agencies to publish the routine use recommended by the President's Identity Theft Task Force. As part of that effort, the Department published the notice of the proposed routine use on October 3, 2007, at 72 FR 56434, and it was effective on November 13, 2007. The new routine use is added as routine use (27).

In addition, two new routine uses are proposed as follows:

(29) To disclose to a surviving spouse, surviving child, dependent parent, and/or legal guardian information necessary to explain how his/her survivor benefit was computed; and,

(30) To disclose to a spouse or dependent child (or court-appointed guardian thereof) of an individual covered by the system, upon request, whether the individual (a) changed his/her election from a self-and-family to a self-only health and/or life insurance benefit enrollment; (b) changed his/her additional survivor benefit election; and/or, (c) received a lump-sum refund of his/her retirement contributions.

Routine use (7) was changed to include auditors and actuaries; and, (9) was changed to reference coordination with contract carriers that provide benefits.

Two routine uses from the August 2005 publication were deleted (specifically, [11] and [27]) because they were redundant and/or the practice is no longer applicable.

The report of an altered system of records, as required by 5 U.S.C. 552a(r) of the Privacy Act, has been submitted to the Committee on Oversight and Government Reform of the House of Representatives; the Committee on Homeland Security and Governmental Affairs of the Senate; and the Office of Management and Budget, pursuant to Appendix I to OMB Circular A-130, “Federal Agency Responsibilities for Maintaining Records About Individuals,” dated November 30, 2000.

The proposed altered system of records entitled, “D.C. Pensions Retirement Records—Treasury/DO .214” is published in its entirety below.

Dated: June 12, 2009.
Elizabeth Cuffe,
Deputy Assistant Secretary for Privacy and Treasury Records.

Treasury/DO .214

System name:

D.C. Pensions Retirement Records.

System Location:

Office of D.C. Pensions, Department of the Treasury, 1500 Pennsylvania Avenue, NW., Washington, DC 20220. Electronic and paper records are also located at the District and bureaus of the Department, including the Bureau of the Public Debt in Parkersburg, WV. In addition, certain records are located with contractors engaged by the Department.

Categories of individuals covered by the system:

a. Current and former police officers, firefighters, teachers, and judges.

b. Surviving spouses, children, and/or dependent parents of current and former police officers, firefighters, teachers, or judges.

c. Former spouses of current and former police officers, firefighters, teachers, or judges.

Categories of records in the system:

The categories of records include, but is not limited to, identifying information such as: Name(s); contact information; Social Security number; employee identification number; service beginning and end dates; annuity beginning and end dates; date of birth; sex; retirement plan; base pay; average base pay; final salary; type(s) of service and dates used to compute length of service; military base pay amount; purchase of service calculation and amount; and/or benefit payment amount(s).

The types of records in the system may be:

a. Documentation comprised of service history/credit, personnel data, retirement contributions, and/or a refund claim upon which a benefit payment(s) may be based.

b. Medical records and supporting evidence for disability retirement applications and continued eligibility, and documentation regarding the acceptance or rejection.

c. Records submitted by a surviving spouse and/or a child(ren) in support of claims to a benefit payment(s).

d. Consent forms and other records related to the withholding of income tax from a benefit payment(s).

e. Retirement applications, including supporting documentation, and acceptance or denial of such applications.

f. Death claim, including supporting documentation, submitted by a surviving spouse, child(ren), former spouse, and/or beneficiary, that is required to determine eligibility for and receipt of a benefit payment(s), or denial of such claims.

g. Documentation of enrollment and/or change in enrollment for health and life insurance benefits/eligibility.

h. Designation(s) of a beneficiary(ies) for a life insurance benefit and/or an unpaid benefit payment.

i. Court orders submitted by former spouses in support of claims to a benefit payment(s).

j. Records relating to under- and/or over-payments of benefit payments and other debts arising from the responsibility to administer the retirement plans for District police officers, firefighters, teachers, and judges; and, records relating to other Federal debts owed by recipients of Federal benefit payments.

k. Records relating to bankruptcies, tax levies, and garnishments.

l. Records used to determine a total benefit payment and/or if the benefit payment is a District or Federal liability.

m. Correspondence received from current and former police officers, firefighters, teachers, and judges; including their surviving spouses, children, former spouses, dependent parents, and/or beneficiaries.

n. Records relating to time served on behalf of a recognized labor organization.

o. Records relating to benefit payment enrollment and/or change to enrollment for direct deposit to an individual's financial institution.

Authority for maintenance of the system:

Title XI, Subtitle A, Chapters 1 through 9, and Subtitle C, Chapter 4, Subchapter B of the Balanced Budget Act of 1997 (as amended), Public Law 105-33.

Purpose(s):

These records may provide information on which to base determinations of (1) eligibility for, and computation of, benefit payments; (2) direct deposit elections into a financial institution; (3) eligibility and premiums for health insurance and group life insurance; (4) withholding of income taxes; (5) under- or over-payments to recipients of a benefit payment, and for overpayments, the recipient's ability to repay the overpayment; (6) Federal payment made from the General Fund to the District of Columbia Pension Fund and the District of Columbia Judicial Retirement and Survivors Annuity Fund; (7) impact to the Funds due to proposed Federal and/or District legislative changes; and (8) District or Federal liability for benefit payments to former District police officers, firefighters, and teachers, including survivors and dependents, who are receiving a Federal and/or District benefit.

Routine uses of records maintained in the system, including categories of users and the purposes of such uses:

These records and the information in these records may be used:

1. To disclose pertinent information to the appropriate Federal, State, or local agency responsible for investigating, prosecuting, enforcing, or implementing a statute, rule, regulation, or order, where the Department becomes aware of an indication of a violation or potential violation of civil or criminal law or regulation.

2. To disclose information to a Federal agency, in response to its request in connection with the hiring or retention of an employee, the issuance of a security clearance, the conducting of a suitability or security investigation of an individual, the classifying of jobs, the letting of a contract, or the issuance of a license, grant, or other benefit by the requesting agency, to the extent that the information is relevant and necessary to the requesting agency's decision on the matter.

3. To provide information to a congressional office from the record of an individual in response to an inquiry from that congressional office made at the request of that individual.

4. To disclose information to another Federal agency, to a court, or a party in litigation before a court or in an administrative proceeding being conducted by a Federal agency, when the Federal Government is a party to the judicial or administrative proceeding. In those cases where the Federal Government is not a party to the proceeding, records may be disclosed if a subpoena has been signed by a judge.

5. To disclose information to the National Archives and Records Administration for use in records management inspections and its role as an Archivist.

6. To disclose information to the Department of Justice, or in a proceeding before a court, adjudicative body, or other administrative body before which the Department is authorized to appear, when:

(A) The Department or any component thereof;

(B) Any employee of the Department in his or her official capacity;

(C) Any employee of the Department in his or her individual capacity where the Department of Justice or the Department has agreed to represent the employee;

(D) The United States, when the Department determines that litigation is likely to affect the Department or any of its components; or

(E) The Federal funds established by the Act to pay benefit payments is a party to litigation or has an interest in such litigation, and the use of such records by the Department of Justice or the Department is deemed by the Department of Justice or the Department to be relevant and necessary to the litigation provided that the disclosure is compatible with the purpose for which records were collected.

7. To disclose information to contractors, subcontractors, financial agents, grantees, auditors, actuaries, or volunteers performing or working on a contract, service, grant, cooperative agreement, or job for the Department, including the District.

8. To disclose information needed to adjudicate a claim for benefit payments or information needed to conduct an analytical study of benefits being paid under such programs as: Social Security Administration's Old Age, Survivor, and Disability Insurance and Medical Programs; military retired pay programs; and Federal civilian employee retirement programs (Civil Service Retirement System, Federal Employees Retirement System, and other Federal retirement systems).

9. To disclose to the U.S. Office of Personnel Management (OPM) and to the District, information necessary to verify the election, declination, or waiver of regular and/or optional life insurance coverage, or coordinate with contract carriers the benefit provisions of such coverage.

10. To disclose to health insurance carriers contracting with OPM to provide a health benefits plan under the Federal Employees Health Benefits Program or health insurance carriers contracting with the District to provide a health benefits plan under the health benefits program for District employees, Social Security numbers and other information necessary to identify enrollment in a plan, to verify eligibility for payment of a claim for health benefits, or to carry out the coordination for benefits provisions of such contracts.

11. To disclose to any person possibly entitled to a benefit payment in accordance with the applicable order of precedence or to an executor of a deceased person's estate, information that is contained in the record of a deceased current or former police officer, firefighter, teacher, or judge to assist in properly determining the eligibility and amount of a benefit payment to a surviving recipient, or information that results from such determination.

12. To disclose to any person who is legally responsible for the care of an individual to whom a record pertains, or who otherwise has an existing, facially-valid Power of Attorney, including care of an individual who is mentally incompetent or under other legal disability, information necessary to assure application or payment of benefits to which the individual may be entitled.

13. To disclose to the Parent Locator Service of the Department of Health and Human Services, upon its request, the present address of an individual covered by the system needed for enforcing child support obligations of such individual.

14. In connection with an examination ordered by the District or the Department under:

(A) Medical examination procedures; or

(B) Involuntary disability retirement procedures to disclose to the representative of an employee, notices, decisions, other written communications, or any other pertinent medical evidence other than medical evidence about which a prudent physician would hesitate to inform the individual; such medical evidence will be disclosed only to a licensed physician, designated in writing for that purpose by the individual or his or her representative. The physician must be capable of explaining the contents of the medical record(s) to the individual and be willing to provide the entire record(s) to the individual.

15. To disclose information to any source from which the Department seeks additional information that is relevant to a determination of an individual's eligibility for, or entitlement to, coverage under the applicable retirement, life insurance, and health benefits program, to the extent necessary to obtain the information requested.

16. To disclose information to the Office of Management and Budget at any stage of the legislative coordination and clearance process in connection with private relief legislation as set forth in OMB Circular No. A-19.

17. To disclose to an agency responsible for the collection of income taxes the information required by an agreement authorized by law to implement voluntary income tax withholdings from benefit payments.

18. To disclose to the Social Security Administration the names and Social Security numbers of individuals covered by the system when necessary to determine: (1) Their vital status as shown in the Social Security Master Records; and (2) whether retirees receiving benefit payments under the District's retirement plan for police officers and firefighters with post-1956 military service credit are eligible for or are receiving old age or survivors benefits under section 202 of the Social Security Act based upon their wages and self-employment income.

19. To disclose to Federal, State, and local government agencies information to help eliminate fraud and abuse in a benefits program administered by a requesting Federal, State, or local government agency; to ensure compliance with Federal, State, and local government tax obligations by persons receiving benefits payments; and/or to collect debts and overpayments owed to the requesting Federal, State, or local government agency.

20. To disclose to a Federal agency, or a person or an organization under contract with a Federal agency to render collection services for a Federal agency as permitted by law, in response to a written request from the head of the agency or his designee, or from the debt collection contractor, data concerning an individual owing a debt to the Federal Government.

21. To disclose, as permitted by law, information to a State court or administrative agency in connection with a garnishment, attachment, or similar proceeding to enforce alimony or a child support obligation.

22. To disclose information necessary to locate individuals who are owed money or property by a Federal, State or local government agency, or by a financial institution or similar institution, to the government agency owing or otherwise responsible for the money or property (or its agent).

23. To disclose information necessary in connection with the review of a disputed claim for health benefits to a health plan provider participating in the Federal Employees Health Benefits Program or the health benefits program for employees of the District, and to a program enrollee or covered family member or an enrollee or covered family member's authorized representative.

24. To disclose information to another Federal agency for the purpose of effecting administrative or salary offset against a person employed by that agency, or who is receiving or eligible to receive benefit payments from the agency when the Department as a creditor has a claim against that person relating to benefit payments.

25. To disclose information concerning delinquent debts relating to benefit payments to other Federal agencies for the purpose of barring delinquent debtors from obtaining Federal loans or loan insurance guarantees pursuant to 31 U.S.C. 3720B.

26. To disclose to State and local governments information used for collecting delinquent debts relating to benefit payments.

27. To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

28. To disclose to a former spouse information necessary to explain how his/her former spouse's benefit was computed.

29. To disclose to a surviving spouse, surviving child, dependent parent, and/or legal guardian information necessary to explain how his/her survivor benefit was computed.

30. To disclose to a spouse or dependent child (or court-appointed guardian thereof) of an individual covered by the system, upon request, whether the individual a) changed his/her election from a self-and-family to a self-only health and/or life insurance benefit enrollment, b) changed his/her additional survivor benefit election, and/or c) received a lump-sum refund of his/her retirement contributions.

Disclosures to consumer reporting agencies:

Pursuant to 5 U.S.C. 552a(b)(12), disclosures may be made from this system to consumer reporting agencies in accordance with 31 U.S.C. 3711(e).

Policies and practices for storing, retrieving, safeguarding, retaining and disposing of records in the system: Storage:

These records are maintained in hard copy and in an electronic format, including (but not limited to) on magnetic tapes, disks, microfiche.

Retrievability:

These records are retrieved by various combinations of name; date-of-birth; Social Security number; and/or an automatically assigned, system generated number of the individual to whom they pertain.

Safeguards:

Paper records are kept in lockable metal file cabinets or in a secured facility with access limited to those persons whose official duties require access. Data in electronic format is encrypted or password protected. Personnel screening and training are employed to prevent unauthorized disclosure.

Retention and disposal:

Records on a claim for retirement, including salary and service history, survivor annuity elections, and tax and other withholdings are destroyed after 115 years from the date of the former police officer's, firefighter's, teacher's or judge's birth; or 30 years after the date of his/her death, if no application for benefits is received. If a survivor or former spouse receives a benefit payment, such record is destroyed after his/her death. All other records covered by this system may be destroyed in accordance with approved District and Department guidelines. Paper records are destroyed by shredding or burning. Records in electronic media are electronically erased using accepted techniques.

System manager(s) and address:

Director, Office of D.C. Pensions, U.S. Department of the Treasury, Washington, DC 20220.

Notification procedure:

Individuals seeking notification and access to any record contained in the system of records, or seeking to contest its contents, should contact the system manager. Individuals must furnish the following information for their records to be located and identified:

a. Name, including all former names.

b. Date of birth.

c. Social Security number.

d. Signature.

e. Contact information.

Individuals requesting amendment of their records must also follow the Department's Privacy Act regulations regarding verification of identity and amendment of records (31 CFR part 1 subpart C, appendix A).

Record access procedure:

See “Notification procedure,” above.

Contesting record procedure:

See “Notification procedure,” above.

Record source categories:

The information in this system is obtained from:

a. The individual to whom the information pertains.

b. District pay, leave, and allowance records.

c. Health benefits and life insurance plan systems records maintained by the Office of Personnel Management, the District, and health and life insurance carriers.

d. Federal civilian retirement systems.

e. Military retired pay system records.

f. Social Security Old Age, Survivor, and Disability Insurance and Medicare Programs.

g. Official personnel folders.

h. The individual's co-workers and supervisors.

i. Physicians who have examined or treated the individual.

j. Surviving spouse, child(ren), former spouse(s), and/or dependent parent of the individual to whom the information pertains.

k. State courts or support enforcement agencies.

l. Credit bureaus and financial institutions.

m. Government Offices of the District of Columbia, including the D.C. Retirement Board.

n. The General Services Administration National Payroll Center.

o. Educational institutions.

Exemptions claimed for the system:

None.

[FR Doc. E9-14579 Filed 6-19-09; 8:45 am]

BILLING CODE 4810-94-P